FEDERAL COMMUNICATIONS COMMISSION

47 CFR Part 10

[PS Docket Nos. 15-91 and 15-94; FCC 25-14; FR ID 284584]

Wireless Emergency Alerts; Emergency Alert System

AGENCY: Federal Communications Commission.

ACTION: Proposed rule.

SUMMARY: In this document, the Federal Communications Commission (Commission) proposes to broaden the circumstances in which alert originators may send Wireless Emergency Alert (WEA) messages using the “Public Safety Message” classification, which can allow consumers greater flexibility in how messages are presented on their mobile device, including the potential ability to silence alerts. The Commission also seeks comment on whether subscribers should be empowered to further customize their receipt of WEA messages, as well as additional steps that wireless providers, equipment manufacturers, and operating system developers can take to reduce the rate at which subscribers opt out of WEA.

DATES: Comments are due on or before April 17, 2025 and reply comments are due on or before May 19, 2025.

ADDRESSES: The public may submit comments, identified by PS Docket Nos. 15-91 and 15-94, by either the Federal Communications Commission's website (https://www.apps.fcc.gov/ecfs/) and following the instructions for submitting comments or by mail. Parties who choose to file by paper must file an original and one copy of each filing. Filings can be sent by hand or messenger delivery, by commercial courier, or by the U.S. Postal Service. All filings must be addressed to the Secretary, Federal Communications Commission.

Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

Commercial courier deliveries (any deliveries not by the U.S. Postal Service) must be sent to 9050 Junction Drive, Annapolis Junction, MD 20701.

Filings sent by U.S. Postal Service First-Class Mail, Priority Mail, and Priority Mail Express must be sent to 45 L Street NE, Washington, DC 20554.

FOR FURTHER INFORMATION CONTACT: David Kirschner, Attorney-Advisor, Cybersecurity and Communications Reliability Division, Public Safety and Homeland Security Bureau, (202) 418-0695, or by email to david.kirschner@fcc.gov.

SUPPLEMENTARY INFORMATION: This is a summary of the Commission's Eleventh Further Notice of Proposed Rulemaking (FNPRM), PS Docket Nos. 15-91 and 15-94; FCC 25-14, adopted February 27, 2025, and released February 28, 2025. The full text of this document is available by downloading the text from the Commission's website at: https://www.fcc.gov/document/fcc-makes-weas-more-responsive-public-safety-and-consumer-needs. This document will also be available for public inspection and copying during regular business hours in the FCC Reference Center, 45 L Street NE, Washington, DC 20554. To request materials in accessible formats for people with disabilities (Braille, large print, electronic files, audio format), send an email to FCC504@fcc.gov or call the Consumer & Governmental Affairs Bureau at 202-418-0530 (voice), 202-418-0432 (TTY).

A final rule relating to Wireless Emergency Alerts and the Emergency Alert System is published elsewhere in this issue of the Federal Register.

Synopsis

I. Further Notice of Proposed Rulemaking

1. In this Eleventh Further Notice of Proposed Rulemaking, we propose to allow alert originators greater flexibility to send WEAs using the Public Safety Message classification. Making this change would allow alert originators to send WEAs in a classification where the Commission's rules allow Participating CMS Providers to offer their subscribers greater flexibility in how they receive WEA messages. If Participating CMS Providers provide their subscribers with the ability to customize how they receive WEAs sent in the Public Safety Message classification, and subscribers take advantage of their ability to customize such WEAs, we believe it will reduce subscriber alert fatigue and opt out. We also seek comment on whether subscribers should be empowered to further customize their receipt of WEA messages and other steps we can take to reduce subscriber alert fatigue and opt out.

A. Improving Public Safety Messages

2. The rules define a Public Safety Message as “an essential public safety advisory that prescribes one or more actions likely to save lives and/or safeguard property during an emergency.” The current rules limit the issuance of Public Safety Messages to circumstances “in connection with” a National Alert, Imminent Threat Alert, or AMBER Alert. We propose to remove that limitation. When the Commission adopted the Public Safety Message classification, it understood that these messages were “intended to provide supplemental instructions about how to protect life or property during an AMBER Alert, Presidential Alert, or Imminent Threat Alert.” We seek comment on whether broadening the scope of Public Safety Messages by removing the requirement that they “supplement” a prior alert would facilitate the use of WEA for situations where it can help keep people safe, such as MEP alerts, Blue Alerts, and boil water advisories. Conversely, could removing this limitation cause alert fatigue by increasing the number of WEAs that people receive about events that are less than the most urgent, severe, or certain to occur?

3. We seek comment on whether Public Safety Messages, as a class, increase consumer choice regarding whether they receive emergency alerts other than those that are the most urgent, severe, and certain to occur, as well as regarding the presentation of the Attention Signal along with such alerts. In 2016, the Commission allowed Participating CMS Providers to associate a unique pattern of sounds and vibrations with Public Safety Messages, instead of the Attention Signal, and allowed Participating CMS Providers to provide subscribers with the ability to silence or turn off Public Safety Messages during certain hours. The Commission also allowed Participating CMS Providers to provide their subscribers with the option to specify how the Attention Signal should be presented when a WEA is received during an active voice or data session. Have any Participating CMS Providers associated unique haptic or auditory cues with Public Safety Messages? Have any Participating CMS Providers provided their subscribers with the ability to turn off Public Safety Messages during certain hours? Have any Participating CMS Providers provided their subscribers with the option to control how the Attention Signal is presented during an active voice or data sessions? If so, how have these functions worked in practice? Are there additional actions that we should take to give subscribers control over their receipt of Public Safety Messages, given that, our proposal, if adopted, would allow alert originators to use Public Safety Messages for events less urgent, severe, or certain to occur than Imminent Threat Alerts? We seek comment on whether a silent-by-default setting for Public Safety Messages, with an option for consumers to opt into receiving the attention signal and/or vibration cadence, would better align with consumer preferences or expectations and thereby help to mitigate alert fatigue and consumer opt-out.

B. Enhancing Subscriber Customization

4. We seek comment on whether WEA-capable devices should provide subscribers with additional options that let them decide how alerts are presented. For example, should subscribers have greater flexibility to silence the attention signal or vibration cadence for certain classes of alerts? Should subscribers be able to configure the attention signal or vibration cadence so that it is presented notwithstanding the device's “do-not-disturb” settings? If so, how should these capabilities be implemented in practice? Should this option be available for all classes of alert message other than the National Alert, or only for certain classes (e.g., only for AMBER alerts and Public Safety Messages)? Should the presentation of the attention signal and vibration cadence be individually adjustable for each alert class, in the event that the subscribers want them to behave differently? Should subscribers have the option of adjusting the volume of the attention signal to make it quieter or louder independent of their mobile device volume setting? Should WEA-capable devices adjust the volume of the attention signal to a pre-specified level when headphones are connected? Should alert originators be empowered to override the subscribers' selected settings to a greater degree than we require in the accompanying Report and Order, and if so, under what circumstances would it be appropriate for alert originators to do so? We seek comment on the costs and benefits associated with providing subscribers with these and other options for enhanced flexibility. If adopted, what effect would these capabilities have on public safety? Could these capabilities confuse consumers or pose technical implementation challenges? How should we balance the goal of increased flexibility for alert originators and consumers with the goal of reducing complexity and confusion that could undermine confidence in and use of the WEA system? Will allowing additional flexibility improve public safety by causing fewer subscribers to opt out of receiving life-saving alerts? Or will it endanger public safety by reducing the likelihood that subscribers will receive adequate warnings during disasters? We seek comment on any additional ways in which subscribers should be permitted to customize the WEA alerts that they receive that would make those alerts more effective.

C. Other Ways To Reduce Subscriber Opt-Out

5. We seek comment on any additional ways in which we might reduce the rate at which subscribers opt out of receiving certain classes of WEA messages. Our rules allow Participating CMS Providers to offer their subscribers the option to opt out of Child Abduction Emergency/AMBER Alert, Imminent Threat Alert, and Public Safety Message classes of WEA. Our rules also state that “CMS providers shall provide their subscribers with a clear indication of what each option means, and provide examples of the types of messages the customer may not receive as a result of opting out.” We seek comment on how Participating CMS Providers offer their subscribers the ability to opt out of receiving certain WEA notifications. Do mobile devices' WEA notification settings encourage thoughtful consideration of whether to opt out? Should we take further action to ensure that, if consumers do choose to opt out of receiving some types of WEA notifications, they do so only after having given due consideration to the consequences of not receiving time-sensitive, potentially life-saving alerts?

6. What actions can mobile device equipment manufacturers or operating system developers take regarding WEA notification settings or the way in which users are prompted to review those settings to promote careful consideration of the options? To what extent do mobile device manufacturers' design decisions influence the rate of consumer opt out? We seek comment on whether certain mobile device operating systems' implementation of the right to opt out of WEA messages increases the incidence of consumer opt out. For example, if mobile device user interfaces are designed to repeatedly and prominently present users with the option to opt out of WEA, or the receipt of every WEA is associated with the presentation of the option to opt out, could that increase the likelihood that subscribers opt out of WEA? Do these user interface designs promote informed consumer choice? If not, what changes could be made to increase the likelihood of informed consumer choice? We seek comment on factors that might explain the difference between opt out rates between users of mobile devices made by different device manufacturers. Do other types of mobile devices and/or operating system make it easier or harder to opt out of receiving WEA messages?

7. We seek comment on whether revising the Public Safety Message classification or prohibiting certain user interface designs that incent opt out would impose costs on mobile device equipment manufacturers or Participating CMS Providers. We do not believe that compliance with our proposals to change the definition of a Public Safety Message would present any costs because no changes would be needed to systems or software to facilitate compliance. We seek comment on this view. If compliance does present costs, we invite commenters to quantify those costs and recommend specific actions that we could take to minimize the burden of compliance on small entities.

8. Finally, we seek comment on what the Commission can do to improve the timeliness and accuracy of WEA alerts. The effectiveness of WEAs during emergency situations depends heavily on their timeliness and accuracy. When these alerts are delayed or contain inaccurate information, their value diminishes significantly, which can lead to subscribers losing trust and ultimately opting out. What steps can be taken to enhance coordination between local authorities and other WEA stakeholders, including vendors of alert origination software and Participating CMS Providers, to ensure more timely alerts during emergencies? What additional measures or best practices could be implemented to ensure that WEA alerts contain accurate information, particularly in fast-evolving situations like wildfires or severe weather events?

II. Procedural Matters

9. Regulatory Flexibility Act. The Commission has prepared an Initial Regulatory Flexibility Analysis (IRFA) concerning the potential impact of the rule and policy changes contained in the Eleventh Further Notice of Proposed Rulemaking. The IRFA is set forth in Appendix D of the Commission document. The Commission invites the general public, in particular small businesses, to comment on the IRFA. Comments must be filed by the deadlines for comments indicated on the first page of the Commission document and must have a separate and distinct heading designating them as responses to the IRFA.

10. Providing Accountability Through Transparency Act. Consistent with the Providing Accountability Through Transparency Act, Public Law 118-9, a summary of this Eleventh Further Notice of Proposed Rulemaking will be available on https://www.fcc.gov/proposed-rulemakings.

11. Ex Parte Rules—Permit-But-Disclose. This proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with Rule 1.1206(b). In proceedings governed by Rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

12. Filing Requirements—Comments and Replies. Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://www.fcc.gov/ecfs/.

• Paper Filers: Parties who choose to file by paper must file an original and one copy of each filing.

○ Filings can be sent by hand or messenger delivery, by commercial courier, or by the U.S. Postal Service. All filings must be addressed to the Secretary, Federal Communications Commission.

○ Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

○ Commercial courier deliveries (any deliveries not by the U.S. Postal Service) must be sent to 9050 Junction Drive, Annapolis Junction, MD 20701.

○ Filings sent by U.S. Postal Service First-Class Mail, Priority Mail, and Priority Mail Express must be sent to 45 L Street NE, Washington, DC 20554.

13. Paperwork Reduction Act. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

14. People with Disabilities. To request materials in accessible formats for people with disabilities (braille, large print, electronic files, audio format), send an email to fcc504@fcc.gov or call the Consumer & Governmental Affairs Bureau at 202-418-0530 (voice).

III. Ordering Clauses

15. Accordingly it is ordered, pursuant to the authority contained in Sections 1, 2, 4(i), 4(n), 301, 303(b), 303(e), 303(g), 303(j), 303(r), 307, 309, 316, 403, and 706 of the Communications Act of 1934, as amended, 47 U.S.C. 151, 152, 154(i), 154(n), 301, 303(b), 303(e), 303(g), 303(j), 303(r), 307, 309, 316, 403, and 606, as well as by sections 602(a), (b), (c), (f), 603, 604 and 606 of the Warning Alert and Response Network (WARN) Act, 47 U.S.C. 1201(a), (b), (c), (f), 1203, 1204 and 1206, that this Eleventh Further Notice of Proposed Rulemaking is hereby adopted.

16. It is further ordered that the Commission's Office of the Secretary shall send a copy of this Eleventh Further Notice of Proposed Rulemaking, including the Initial Regulatory Flexibility Analyses, to the Chief Counsel for Advocacy of the Small Business Administration.

List of Subjects in 47 CFR Parts 10

Communications, Communications equipment, Electronic products, Individuals with disabilities, Telecommunications.

Federal Communications Commission.
Marlene Dortch,
Secretary.

Proposed Rules

For the reasons discussed in the preamble, the Federal Communications Commission proposes to amend 47 CFR part 10 as follows:

PART 10—WIRELESS EMERGENCY ALERTS

1. The authority citation for part 10 is revised to read as follows:

Authority: 47 U.S.C. 151, 152, 154(i), 154(n), 201, 301, 303(b), 303(e), 303(g), 303(j), 303(r), 307, 309, 316, 403, 544(g), 606, 1201, 1202, 1203, 1204, and 1206.

2. Amend § 10.400 by revising the introductory text and paragraph (d) to read as follows:

§ 10.400 Classification.

A Participating CMS Provider is required to receive and transmit four classes of Alert Messages: National Alert; Imminent Threat Alert; Child Abduction Emergency/AMBER Alert; and Public Safety Message.

* * * * *

(d) Public Safety Message. A Public Safety Message is an essential public safety advisory that prescribes one or more actions likely to save lives and/or safeguard property during an emergency.

[FR Doc. 2025-04125 Filed 3-17-25; 8:45 am]

BILLING CODE 6712-01-P